DEPARTMENT OF ENERGY

Federal Energy Regulatory Commission

[Docket No. CP22-2-000]

Gas Transmission Northwest LLC; Notice of Availability of the Final Environmental Impact Statement for the Proposed GTN Xpress Project

The staff of the Federal Energy Regulatory Commission (FERC or Commission) has prepared a final environmental impact statement (EIS) for the GTN XPress Project (Project), proposed by Gas Transmission Northwest LLC (GTN) in the above-referenced docket. GTN proposes to modify existing compressor stations in Idaho, Washington, and Oregon. This Project would increase the capacity of GTN's existing natural gas transmission system by about 150 million standard cubic feet per day between Idaho and Oregon. According to GTN, the Project is necessary to serve the growing market demand its system is experiencing.

The final EIS assesses the potential environmental effects of modifying and installing new facilities at the existing compressor stations in accordance with the requirements of the National Environmental Policy Act (NEPA). The FERC staff concludes that approval of the proposed Project, with the mitigation measures recommended in the EIS, would result in some adverse environmental impacts, but none that are considered significant. Regarding climate change impacts, the EIS is not characterizing the Project's greenhouse gas emissions as significant or insignificant because the Commission is conducting a generic proceeding to determine whether and how the Commission will conduct significance determinations going forward.¹ The EIS also concludes that no system or other alternative would meet the Project objectives while providing a significant environmental advantage over the Project as proposed.

¹ Consideration of Greenhouse Gas Emissions in Natural Gas Infrastructure Project Reviews, 178 FERC ¶ 61,108 (2022); 178 FERC ¶ 61,197 (2022).

The U.S. Environmental Protection Agency participated as a cooperating agency in the preparation of the EIS. A cooperating agency has jurisdiction by law or special expertise with respect to resources potentially affected by the proposal and participates in the NEPA analysis.

The final EIS addresses the potential environmental effects of construction and operation of the following Project facilities at GTN's existing compressor stations:

Athol Compressor Station (Kootenai County, Idaho)

• Uprate an existing Solar Turban Titan 130 gas-fired turbine compressor from 14,300 horsepower (HP) to 23,470 HP via a software upgrade only, no mechanical work or ground disturbance would occur at this location.

Starbuck Compressor Station (Walla Walla County, Washington)

• Uprate an existing Solar Turban Titan 130 gas-fired turbine compressor from 14,300 HP to 23,470 HP; and

• Install a new 23,470 HP Solar Turbine Titan 130 gas-fired turbine compressor, 3 new gas cooling bays, and associated piping.

Kent Compressor Station (Sherman County, Oregon)

• Uprate an existing Solar Turban Titan 130 gas-fired turbine compressor from 14,300 HP to 23,470 HP;

• Install 4 new gas cooling bays and associated piping; and

• Improve an existing access road.

The new Starbuck Compressor Station facilities would be located within the fenced boundaries of the existing site. The new Kent Compressor Station facilities would be located in an expanded and fenced area abutting the existing site.

The Commission mailed a copy of the Notice of Availability of the final EIS to federal, state, and local government representatives and agencies; elected officials; environmental and public interest groups; Indian tribes; potentially affected landowners and other interested individuals and groups; and newspapers and libraries in the Project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search) select “General Search” and enter the docket number in the “Docket Number” field, excluding the last three digits (i.e., CP22-2). Be sure you have selected an appropriate date range. For assistance, please contact FERC Online Support at FercOnlineSupport@ferc.gov or toll free at (866) 208-3676, or for TTY, contact (202) 502-8659.

The EIS is not a decision document. It presents Commission staff's independent analysis of the environmental issues for the Commission to consider when addressing the merits of all issues in this proceeding.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: November 18, 2022.
Kimberly D. Bose,
Secretary.

[FR Doc. 2022-25715 Filed 11-23-22; 8:45 am]

BILLING CODE 6717-01-P